DEPARTMENT OF TRANSPORTATION

Federal Aviation Administration

[Docket No.: FAA-2024-2560; Summary Notice No. -2025-06]

Petition for Exemption; Summary of Petition Received; The Board of Regents of the Nevada System of Higher Education on Behalf of Desert Research Institute.

AGENCY: Federal Aviation Administration (FAA), Department of Transportation (DOT).

ACTION: Notice.

SUMMARY: This notice contains a summary of a petition seeking relief from specified requirements of Federal Aviation Regulations. The purpose of this notice is to improve the public's awareness of, and participation in, the FAA's exemption process. Neither publication of this notice nor the inclusion nor omission of information in the summary is intended to affect the legal status of the petition or its final disposition.

DATES: Comments on this petition must identify the petition docket number and must be received on or before February 19, 2025.

ADDRESSES: Send comments identified by docket number FAA-2024-2560 using any of the following methods:

• Federal eRulemaking Portal: Go to https://www.regulations.gov and follow the online instructions for sending your comments electronically.

• Mail: Send comments to Docket Operations, M-30; U.S. Department of Transportation, 1200 New Jersey Avenue SE, Room W12-140, West Building Ground Floor, Washington, DC 20590-0001.

• Hand Delivery or Courier: Take comments to Docket Operations in Room W12-140 of the West Building Ground Floor at 1200 New Jersey Avenue SE, Washington, DC 20590-0001, between 9 a.m. and 5 p.m., Monday through Friday, except Federal holidays.

• Fax: Fax comments to Docket Operations at (202) 493-2251.

Privacy: In accordance with 5 U.S.C. 553(c), DOT solicits comments from the public to better inform its rulemaking process. DOT posts these comments, without edit, including any personal information the commenter provides, to https://www.regulations.gov, as described in the system of records notice (DOT/ALL-14 FDMS), which can be reviewed at https://www.dot.gov/privacy.

Docket: Background documents or comments received may be read at https://www.regulations.gov at any time. Follow the online instructions for accessing the docket or go to the Docket Operations in Room W12-140 of the West Building Ground Floor at 1200 New Jersey Avenue SE, Washington, DC 20590-0001, between 9 a.m. and 5 p.m., Monday through Friday, except Federal holidays.

FOR FURTHER INFORMATION CONTACT: Liam Andrews, (202) 267-8181, Office of Rulemaking, Federal Aviation Administration, 800 Independence Avenue SW, Washington, DC 20591.

This notice is published pursuant to 14 CFR 11.85.

Issued in Washington, DC.
Dan Ngo,
Manager, Part 11 Petitions Branch, Office of Rulemaking.

Petition for Exemption

Docket No.: FAA-2024-2560.

Petitioner: The Board of Regents of the Nevada System of Higher Education on behalf of Desert Research Institute.

Section(s) of 14 CFR Affected: §§ 61.3(a)(1)(i), 61.23(a)(2), 91.7(a), 91.119(c), 91.121, 91.151(b), 91.403(b), 91.405(a), 91.407(a)(1), 91.409(a)(1), 91.409(a)(2), 91.417(a), and 91.417(b).

Description of Relief Sought: By letters dated November 5, 2024, and January 9, 2025, as well as a record of conversation dated January 8, 2025, The Board of Regents of the Nevada System of Higher Education on behalf of Desert Research Institute (Desert Research Institute) seeks relief to operate the Freefly Alta X unmanned aircraft system (UAS), weighing over 50 pounds (lbs.) but no more than 76.9 lbs., for the purpose of research and development, training of university personnel, and to establish a UAS flight experience program for non-employees with UAS weighing 55 lbs. or more from the FAA approved aircraft list. The Desert Research Institute requests the removal of the 14 CFR part 61 written test requirement and seeks to only hold a remote pilot certificate for operations.

[FR Doc. 2025-01909 Filed 1-29-25; 8:45 am]

BILLING CODE 4910-13-P